DEPARTMENT OF VETERANS AFFAIRS

[OMB Control No. 2900-0716]

Agency Information Collection Activity: (Complaint of Employment Discrimination; Information for Pre-Complaint Processing)

AGENCY: The Office of Resolution Management, Department of Veterans Affairs.

ACTION: Notice.

SUMMARY: The Office of Resolution Management (ORM), Department of Veterans Affairs (VA), is announcing an opportunity for public comment on the collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before March 9, 2020.

ADDRESSES: Submit written comments on the collection of information through Federal Docket Management System (FDMS) at www.Regulations.gov or to Gina Suppa, Office of Resolution Management, Office of Policy and Compliance (08), Department of Veterans Affairs, 810 Vermont Avenue NW, Washington, DC 20420 or email to Gina.Suppa@va.gov. Please refer to “OMB Control No. 2900-0716” in any correspondence. During the comment period, comments may be viewed online through FDMS.

FOR FURTHER INFORMATION CONTACT: William Preston, Office of Resolution Management, Office of Policy and Compliance by telephone at: (216) 390-3607, electronically at: Gina.Suppa@va.gov or by facsimile at: (202) 501-2811.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, ORM invites comments on: (1) Whether the proposed collection of information is necessary for the proper performance of ORM's functions, including whether the information will have practical utility; (2) the accuracy of ORM's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501—3521.

Title: a. Complaint of Employment Discrimination, VA Form 4939.

b. Information for Pre-Complaint Processing, VA Form 08-10192.

OMB Control Number: 2900-0716.

Type of Review: Reinstatement of a previously OMB approved collection.

Abstract: VA employees, former employees and applicants for employment who believe they were denied employment based on race, color, religion, gender, national origin age, physical or mental disability and/or reprisal for prior Equal Employment Opportunity activity complete VA Form 4939 to file a complaint of discrimination.

Affected Public: Individuals and households.

Estimated Annual Burden: 230 burden hours.

Estimated Average Burden per Respondent: 30 minutes.

Frequency of Response: Annual.

Estimated Number of Respondents: 460.

By direction of the Secretary.
Danny S. Green,
Department Clearance Officer, Office of Quality, Performance and Risk, Department of Veterans Affairs.

[FR Doc. 2020-00055 Filed 1-7-20; 8:45 am]

BILLING CODE 8320-01-P